DEPARTMENT OF COMMERCE

National Oceanic and Atmospheric Administration

[I.D. 051605A]

Marine Mammals; File No. 881-1758

AGENCY: National Marine Fisheries Service (NMFS), National Oceanic and Atmospheric Administration (NOAA), Commerce.

ACTION: Issuance of permit.

SUMMARY: Notice is hereby given that Alaska SeaLife Center (ASLC), 301 Railway Avenue, Seward, AK 99664, (Anne Hoover-Miller, Principal Investigator) has been issued a permit to conduct research on harbor seals (Phoca vitulina) in rehabilitation at the ASLC.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Amy Sloan or Ruth Johnson, (301)713-2289.

SUPPLEMENTARY INFORMATION: On December 29, 2004, notice was published in the Federal Register (69 FR 77997) that a request for a scientific research permit to take the species identified above had been submitted by the above-named organization. The requested permit has been issued under the authority of the Marine Mammal Protection Act of 1972, as amended (16 U.S.C. 1361 et seq.), and the Regulations Governing the Taking and Importing of Marine Mammals (50 CFR part 216).

This permit authorizes researchers to study growth, development, and health of harbor seals throughout their residency in the ASLC Rehabilitation Program. In addition to conducting standard rehabilitation practices, researchers will collect blood, fecal, and urine samples; collect body composition measurements using bioelectrical impedance and deuterium oxide; perform sodium bromide, Evan's blue dye, and nitrogen administration followed by post-administration blood samples; conduct assimilation efficiency experiments to study metabolic development; and collect blubber biopsies to study fatty acid composition and contaminant loads. The permit has been issued for a five-year period.

Dated: May 16, 2005.
Stephen L. Leathery,
Chief, Permits, Conservation and Education Division, Office of Protected Resources, National Marine Fisheries Service.

[FR Doc. 05-10024 Filed 5-18-05; 8:45 am]

BILLING CODE 3510-22-S